DEPARTMENT OF TRANSPORTATION

Federal Aviation Administration

14 CFR Part 71

[Docket No. FAA-2024-2159; Airspace Docket No. 24-AGL-20]

RIN 2120-AA66

Amendment of Class E Airspace; Zanesville, OH

AGENCY: Federal Aviation Administration (FAA), DOT.

ACTION: Final rule.

SUMMARY: This action amends the Class E airspace at Zanesville, OH. This action is the result of an airspace review conducted due to the decommissioning of the Zanesville very high frequency omnidirectional range (VOR) as part of the VOR Minimum Operational Network (MON) Program. The geographic coordinates of the Zanesville Municipal Airport, Zanesville, OH, and the name of Genesis Health Care Heliport, Zanesville, OH, are also being updated to coincide with the FAA's aeronautical database. This action brings the airspace into compliance with FAA orders and supports instrument flight rule (IFR) procedures and operations.

DATES: Effective 0901 UTC, February 20, 2025. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class E surface airspace and the Class E airspace extending upward from 700 feet above the surface at Zanesville Municipal Airport, Zanesville, OH, to support IFR operations at this airport.

History

The FAA published an NPRM for Docket No. FAA-2024-2159 in the Federal Register (89 FR 70585; August 30, 2024) proposing to amend the Class E airspace at Zanesville, OH. Interested parties were invited to participate in this rulemaking effort by submitting written comments on the proposal to the FAA. One comment was received supporting the proposed airspace amendment with concerns around encroaching on operations at Riverside Airport, Zanesville, OH. The following response is provided:

The expansion of the Class E surface airspace radius at Zanesville Municipal Airport, Zanesville, OH, is required to comply with FAA Order JO 7400.2P, Procedures for Handling Airspace Matters, to protect IFR operations at the airport while the overall Class E surface airspace is being reduced with the removal of the current extensions that are no longer required. The visual flight rule (VFR) operations from runway 3/21 at Riverside Airport were taken into consideration, and a 1-mile cutout is standard for VFR operations. The weather minimums for the Class E surface airspace at Zanesville Municipal Airport should not impede operations at Riverside Airport as it is limited to VFR operations.

Incorporation by Reference

Class E airspace designations are published in paragraph 6005 of FAA Order JO 7400.11, Airspace Designations and Reporting Points, which is incorporated by reference in 14 CFR 71.1 on an annual basis. This document amends the current version of that order, FAA Order JO 7400.11J, dated July 31, 2024, and effective September 15, 2024. FAA Order JO 7400.11J is publicly available as listed in the ADDRESSES section of this document. These amendments will be published in the next update to FAA Order JO 7400.11.

FAA Order JO 7400.11J lists Class A, B, C, D, and E airspace areas, air traffic service routes, and reporting points.

The Rule

This amendment to 14 CFR part 71:

Modifies the Class E surface airspace to within a 4.5-mile (increased from a 4-mile) radius of Zanesville Municipal Airport, Zanesville, OH; removing the Zanesville NDB and associated extensions from the airspace legal description as they are no longer needed; removing the Zanesville VOR/DME and associated extensions from the airspace legal description; updating the geographic coordinates of Zanesville Municipal Airport to coincide with the FAA's aeronautical database; and removing the city associated with Riverside Airport, Zanesville, OH, from the header of the airspace legal description to comply with changes to FAA Order JO 7400.2P;

And modifies the Class E airspace extending upward from 700 feet above the surface to within a 7-mile (reduced from an 8.5-mile) radius of Zanesville Municipal Airport; removing the Zanesville VOR/DME and associated extension from the airspace legal description; adding an extension 4 miles each side of the 034° bearing from the airport extending from the 7-mile radius to 11.4 miles northeast of the airport; adding an extension 4 miles each side of the 214° bearing from the airport extending from the 7-mile radius to 11.5 miles southwest of the airport; adding the Genesis Health Care Heliport, Zanesville, OH, point in space coordinates that had been inadvertently removed from the airspace legal description in a previous amendment to the header of the airspace legal description; updating the name of the Genesis Health Care Heliport (previous Bethesda Hospital) to coincide with the FAA's aeronautical database; and removing the exclusionary language as it is no longer required.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 6002 Class E Airspace Areas Designates as a Surface Area.

* * * * *

AGL OH E2 Zanesville, OH [Amended]

Zanesville Municipal Airport, OH

(Lat 39°56′40″ N, long 81°53′32″ W)

Riverside Airport, OH

(Lat 39°59′10″ N, long 81°59′01″ W)

Within a 4.5-mile radius of the Zanesville Municipal Airport excluding that airspace within a 1-mile radius of the Riverside Airport.

* * * * *

Paragraph 6005 Class E Airspace Areas Extending Upward From 700 Feet or More Above the Surface of the Earth.

* * * * *

AGL OH E5 Zanesville, OH [Amended]

Zanesville Municipal Airport, OH

(Lat 39°56′40″ N, long 81°53′32″ W)

Genesis Health Care Heliport Point in Space Coordinates

(Lat 39°59′05″ N, long 82°01′30″ W)

That airspace extending upward from 700 feet above the surface within an 7-mile radius of the Zanesville Municipal Airport; and within 4 miles each side of the 034° bearing from the airport extending from the 7-mile radius of the airport to 11.4 miles northeast of the airport; and within 4 miles each side of the 214° bearing from the airport extending from the 7-mile radius of the airport to 11.5 miles southwest of the airport; and within a 6-mile radius of the Genesis Health Care Heliport point in space coordinates.

* * * * *

Issued in Fort Worth, Texas, on November 6, 2024.
Martin A. Skinner,
Acting Manager, Operations Support Group, ATO Central Service Center.

[FR Doc. 2024-26146 Filed 11-12-24; 8:45 am]

BILLING CODE 4910-13-P